INTERNATIONAL TRADE COMMISSION

[Investigation No. 337-TA-1290]

Certain Refrigerator Water Filtration Devices and Components Thereof; Notice of Commission Final Determination To Issue a Limited Exclusion Order and Cease and Desist Orders; Termination of the Investigation

AGENCY: U.S. International Trade Commission.

ACTION: Notice.

SUMMARY: Notice is hereby given that the U.S. International Trade Commission has determined to issue a limited exclusion order (“LEO”) barring entry of certain infringing refrigerator water filtration devices and components thereof that are imported by or on behalf of: Freshlab LLC of Gainesville, Florida; Isave Strategic Marketing Group LLC d/b/a Isave of New York, New York; GT Sourcing Inc. d/b/a GT Sourcing of Monsey, New York; Refresh Filters LLC d/b/a Refresh My Water of New York, New York; All Filters LLC d/b/a Allfilters of Salt Lake City, Utah; Jiangsu Angkua Environmental Technical Co., Ltd. of Nantong, China (“Jiangsu”); Shenzen Hangling E-Commerce Co. Ltd d/b/a Best Belvita of Elmhurst, Illinois; Qinghaishunzexiaofangjianceyouxiang Ongsi d/b/a Ezeey of Xining City, China; and Zhang Ping d/b/a Ice Water Filter of Dongyang, China (collectively, “Defaulting Respondents”). The Commission has also determined to issue cease and desist orders (“CDOs”) against all of the Defaulting Respondents except Jiangsu. The investigation is terminated.

FOR FURTHER INFORMATION CONTACT: Houda Morad, Office of the General Counsel, U.S. International Trade Commission, 500 E Street SW, Washington, DC 20436, telephone (202) 708-4716. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On January 21, 2022, the Commission instituted this investigation under section 337 of the Tariff Act of 1930, as amended, 19 U.S.C. 1337 (“section 337”), based on a complaint filed by LG Electronics Inc. of Seoul, Republic of Korea, and LG Electronics Alabama, Inc. of Huntsville, Alabama (collectively, “Complainants”). See 87 FR 3331-33 (Jan. 21, 2022). The complaint, as supplemented, alleges a violation of section 337 based upon the importation into the United States, the sale for importation, and the sale within the United States after importation of certain refrigerator water filtration devices and components thereof by reason of infringement of certain claims of U.S. Patent Nos. 10,653,984 (“the '984 patent”); 10,639,570 (“the '570 patent”); and 10,188,972 (“the '972 patent”). See id. In addition to the Defaulting Respondents, the notice of investigation names the following respondents: (1) Qingdao Ecopure Filter Co., Ltd of Qingdao, China; Qingdao Maxwell Commercial and Trading Company Ltd of Qingdao Chengyang, China; and Qingdao Uniwell Trading Co., Ltd. of Qingdao, China (collectively, “First Settling Respondents”); (2) Express Parts LLC of Keyport, New Jersey; Ningbo Haishu Keze Replacement Equipment Co., Ltd. of Ningboshi, China; Ningbo Bichun Technology Co., Ltd. (formerly Ningbo Haishu Bichun Technology Co., Ltd.) of Ningbo City, China; Ningbo Haishu Shun'anjie Water Purification Equipment LLC of Ningbo, China; Shenzhen Yu Tian Qi Technology Co., Ltd. of Shenzhen, China; and AGA Imports LLC d/b/a ClearWater Filters of Lakewood, New Jersey (collectively, “Second Settling Respondents”); (4) JJ Imports LLC of Elmwood Park, New Jersey (“JJ Imports”); (5) Aicuiying of Shenzhen, China; Liu Qi of Luliang City, China; Lvliangshilishiquhuiliwujinbaihuoshan Ghang of Luliang, China; and Zhenpingxianjiaxuanyazhubaofuzhu Anggongyipinyouxia of Wuhanshi, China (collectively, “Unserved Respondents”); (6) Yunda H&H Tech (Tianjin) Co., LTD. of Tianjinshi, China; Tianjin Tianchuang Best Pure Environmental Science And Technology Co. Ltd. of Tianjin, China; Top Pure (Usa) Inc. of Pico Rivera, California; and W&L Trading LLC of Frisco, Texas (collectively, “Third Settling Respondents”); and (7) Pursafet Water Filter (Wuhan) Inc. of Wuhan, China (“Pursafet”). See id. The Office of Unfair Import Investigations (“OUII”) is also a party to the investigation. See id.

On September 16, 2022, the Commission partially terminated the investigation as to the '972 patent. See Order No. 31 (Aug. 16, 2022), unreviewed by Comm'n Notice (Sept. 16, 2022). On October 3, 2022, the Commission partially terminated the investigation as to claims 2-8 of the '570 patent. See Order No. 35 (Sept. 19, 2022), unreviewed by Comm'n Notice (Oct. 3, 2022). Accordingly, claims 1-7 of the '984 patent and claims 1 and 9 of the '570 patent (collectively, “Asserted Claims”) remain in the investigation.

On April 12, 2022, the Commission terminated the investigation as to JJ Imports based on the entry of a consent order. See Order No. 14 (Mar. 30, 2022), unreviewed by Comm'n Notice (Apr. 12, 2022). On October 20, 2022, November 8, 2022, and February 2, 2023, the Commission terminated the investigation as to the First, Second, and Third Settling Respondents, respectively. See Order No. 37 (Sept. 28, 2022), unreviewed by Comm'n Notice (Oct. 20, 2022); Order No. 38 (Oct. 7, 2022), unreviewed by Comm'n Notice (Nov. 8, 2022); Order No. 47 (Jan. 4, 2023), unreviewed by Comm'n Notice (Feb. 2, 2023). On December 2, 2022, the Commission partially terminated the investigation as to the Unserved Respondents based on the withdrawal of the complaint as to those respondents. See Order No. 39 (Nov. 2, 2022), unreviewed by Comm'n Notice (Dec. 2, 2022). On December 21, 2022, the Commission partially terminated the investigation as to Pursafet for good cause based on dissolution of the corporation. See Order No. 43 (Dec. 2, 2022), unreviewed by Comm'n Notice (Dec. 21, 2022). Accordingly, only the Defaulting Respondents remain in the investigation.

On June 28, August 29, and December 2, 2022, the Commission found the Defaulting Respondents in default pursuant to Commission Rule 210.16 (19 CFR 210.16) for failure to respond to the complaint and notice of investigation and to orders to show cause. See Order No. 22 (June 3, 2022), unreviewed by Comm'n Notice (June 28, 2022); Order No. 28 (July 28, 2022), unreviewed by Comm'n Notice (Aug. 29, 2022); Order No. 40 (Nov. 2, 2022), unreviewed by Comm'n Notice (Dec. 2, 2022).

On January 11, 2023, Complainants filed a declaration under Commission Rule 210.16(c), 19 CFR 210.16(c) (“Declaration”), requesting the immediate entry of an LEO prohibiting the importation of infringing articles imported by or on behalf of the Defaulting Respondents and CDOs against all of the Defaulting Respondents except Jiangsu. Complainants indicated pursuant to Commission Rule 210.16(c)(2) that they are not seeking a general exclusion order.

On February 2, 2023, the Commission issued a notice requesting written submissions on remedy, the public interest and bonding from the parties and from any other interested third-party or government agencies. See 88 FR 8315-17 (Feb. 8, 2023) (“Remedy Notice”).

On February 13, 2023, Complainants and OUII filed submissions in response to the Remedy Notice, arguing that the public interest does not preclude issuance the requested LEO and CDOs. Complainants also sought a bond during the period of Presidential review in the amount of one hundred percent (100%) of the entered value of the infringing articles. On February 21, 2023, Complainants and OUII filed a reply to each other's submissions.

When the conditions in section 337(g)(1)(A)-(E) (19 U.S.C. 1337(g)(1)(A)-(E)) have been satisfied, section 337(g)(1) and Commission Rule 210.16(c) direct the Commission, upon request, to issue a limited exclusion order or a cease and desist order or both against a respondent found in default, based on the allegations regarding a violation of section 337 in the complaint, which are presumed to be true, unless after consideration of the public interest factors in section 337(g)(1), it finds that such relief should not issue.

Having examined the record of this investigation, including the parties' submissions in response to the Remedy Notice, the Commission has determined pursuant to subsection 337(g)(1) that the appropriate remedy in this investigation is: (1) an LEO prohibiting the unlicensed entry of certain refrigerator water filtration devices and components thereof that are imported by or on behalf of the Defaulting Respondents and that infringe the Asserted Claims; and (2) CDOs against all of the Defaulting Respondents except Jiangsu. The Commission has also determined that the public interest factors enumerated in subsection 337(g)(1) do not preclude the issuance of the LEO and CDOs. The Commission has further determined that the bond during the period of Presidential review pursuant to section 337(j) (19 U.S.C. 1337(j)) shall be in the amount of one hundred percent (100%) of the entered value of the infringing articles.¹ See Certain Centrifuge Utility Platform & Falling Film Evaporator Sys. & Components Thereof, Inv. No. 337-TA-1311, Comm'n Notice at 4-5 (Mar. 23, 2023). The investigation is terminated.

¹ Commissioner Schmidtlein finds that section 337 does not authorize respondents subject to remedial relief under subsection 337(g)(1) to import infringing products under bond during the Presidential review period for the reasons explained in Certain Centrifuge Utility Platform and Falling Film Evaporator Systems and Components Thereof, Inv. No. 337-TA-1311, Comm'n Notice at 5, n.5 (March 23, 2023). She therefore would not permit the Defaulting Respondents to import infringing products under bond during the Presidential review period.

The Commission's vote for this determination took place on April 11, 2023.

The authority for the Commission's determination is contained in section 337 of the Tariff Act of 1930, as amended (19 U.S.C. 1337), and in part 210 of the Commission's Rules of Practice and Procedure (19 CFR part 210).

While temporary remote operating procedures are in place in response to COVID-19, the Office of the Secretary is not able to serve parties that have not retained counsel or otherwise provided a point of contact for electronic service. Accordingly, pursuant to Commission Rules 201.16(a) and 210.7(a)(1) (19 CFR 201.16(a), 210.7(a)(1)), the Commission orders that the Complainant(s) complete service for any party/parties without a method of electronic service noted on the attached Certificate of Service and shall file proof of service on the Electronic Document Information System (EDIS).

By order of the Commission.
Issued: April 11, 2023.
Lisa Barton,
Secretary to the Commission.

[FR Doc. 2023-07932 Filed 4-13-23; 8:45 am]

BILLING CODE 7020-02-P